DEPARTMENT OF THE INTERIOR

National Park Service

[NPS-WASO-NAGPRA-NPS0036575; PPWOCRADN0-PCU00RP14.R50000]

Notice of Inventory Completion: University of Nevada, Las Vegas, Las Vegas, NV

AGENCY: National Park Service, Interior.

ACTION: Notice.

SUMMARY: In accordance with the Native American Graves Protection and Repatriation Act (NAGPRA), the University of Nevada, Las Vegas has completed an inventory of human remains and associated funerary objects and has determined that there is no cultural affiliation between the human remains and associated funerary objects and any Indian Tribe. The human remains and associated funerary objects were removed from White Pine County, Nevada.

DATES: Disposition of the human remains and associated funerary objects in this notice may occur on or after October 19, 2023.

ADDRESSES: Dr. Daniel Benyshek, University of Nevada, Las Vegas, 4505 S Maryland Parkway, Las Vegas, NV 89154 telephone (702) 895-2070, email Daniel.Benyshek@unlv.edu.

SUPPLEMENTARY INFORMATION: This notice is published as part of the National Park Service's administrative responsibilities under NAGPRA. The determinations in this notice are the sole responsibility of the University of Nevada, Las Vegas. The National Park Service is not responsible for the determinations in this notice. Additional information on the determinations in this notice, including the results of consultation, can be found in the inventory or related records held by the University of Nevada, Las Vegas.

Description

Human remains representing, at minimum, one individual were removed from the Ely Site in White Pine County, NV (Accession # FHUR 65). The seven associated funerary objects are one lot consisting of faunal bones, an obsidian tool, a quartzite fragment, one lot consisting of chert flakes, one lot consisting of ochre, one lot consisting of charcoal, and one lot consisting of shell disc beads.

Aboriginal Land

The human remains and associated funerary objects in this notice were removed from a known geographic location. This location is the aboriginal land of one or more Indian Tribes. The following information was used to identify the aboriginal land: a final judgment of the Indian Claims Commission.

Determinations

Pursuant to NAGPRA and its implementing regulations, and after consultation with the appropriate Indian Tribes, the University of Nevada, Las Vegas has determined that:

• The human remains described in this notice represent the physical remains of one individual of Native American ancestry.

• The seven objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Confederated Tribes of the Goshute Reservation, Nevada and Utah; Confederated Tribes of the Warm Springs Reservation of Oregon; Fort McDermitt Paiute and Shoshone Tribes of the Fort McDermitt Indian Reservation, Nevada and Oregon; Paiute-Shoshone Tribe of the Fallon Reservation and Colony, Nevada; Pyramid Lake Paiute Tribe of the Pyramid Lake Reservation, Nevada; Reno-Sparks Indian Colony, Nevada; Skull Valley Band of Goshute Indians of Utah; Walker River Paiute Tribe of the Walker River Reservation, Nevada; Washoe Tribe of Nevada & California (Carson Colony, Dresslerville Colony, Woodfords Community, Stewart Community, & Washoe Ranches); and the Yerington Paiute Tribe of the Yerington Colony & Campbell Ranch, Nevada.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after October 19, 2023. If competing requests for disposition are received, the University of Nevada, Las Vegas must determine the most appropriate requestor prior to disposition. Requests for joint disposition of the human remains and associated funerary objects are considered a single request and not competing requests. The University of Nevada, Las Vegas is responsible for sending a copy of this notice to the Indian Tribes identified in this notice.

Authority: Native American Graves Protection and Repatriation Act, 25 U.S.C. 3003, and the implementing regulations, 43 CFR 10.9 and § 10.11.

Dated: September 11, 2023.
Melanie O'Brien,
Manager, National NAGPRA Program.

[FR Doc. 2023-20192 Filed 9-18-23; 8:45 am]

BILLING CODE 4312-52-P